FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License no. | Name/address | Date reissued
4015F | Caribbean Cold Storage, Inc., 1505 Dennis Street, Jacksonville, FL 32204 | August 1, 2003.
16743F | Courtney International Forwarding Inc., 372 Doughty Blvd., 2nd Floor, Inwood, NY 11096 | August 18, 2003.
17126N | Daily Freight Cargo, Corp., 8426 N.W. 70th Street, Miami, FL 33166 | December 8, 2002.
3864F | Fredonia, Inc. dba Fredonia Cargo Lines, 478 Pennsylvania Avenue, Suite 307, Glen Ellyn, IL 60137 | July 21, 2003.
4383F | Relogistics Worldwide, Inc., 8767 South Street, Indianapolis, IN 46038 | July 10, 2003.

Sandra L. Kusumoto,
Director, Bureau of Consumer Complaints and Licensing.

[FR Doc. 03-23785 Filed 9-17-03; 8:45 am]

BILLING CODE 6730-01-P